DEPARTMENT OF THE INTERIOR

National Park Service

[N6671; NPS-WASO-NAGPRA-NPS0041410; PPWOCRADN0-PCU00RP14.R50000]

Notice of Inventory Completion: University of Wisconsin Oshkosh, Oshkosh, WI

AGENCY: National Park Service, Interior.

ACTION: Notice.

SUMMARY: In accordance with the Native American Graves Protection and Repatriation Act (NAGPRA), the University of Wisconsin Oshkosh (UWO) has completed an inventory of human remains and associated funerary objects and has determined that there is a cultural affiliation between the human remains and associated funerary objects and Indian Tribes or Native Hawaiian organizations in this notice.

DATES: Repatriation of the human remains and associated funerary objects in this notice may occur on or after January 16, 2026.

ADDRESSES: Send written requests for repatriation of the human remains and associated funerary objects in this notice to Adrienne Frie, University of Wisconsin Oshkosh, 800 Algoma Blvd., Oshkosh, WI 54901, email friea@uwosh.edu.

SUPPLEMENTARY INFORMATION: This notice is published as part of the National Park Service's administrative responsibilities under NAGPRA. The determinations in this notice are the sole responsibility of UWO, and additional information on the determinations in this notice, including the results of consultation, can be found in its inventory or related records. The National Park Service is not responsible for the determinations in this notice.

Abstract of Information Available

Human remains representing, at least, one individual have been identified. The individual was removed from a site listed as 47-WN-0086, Winnebago County, WI, which consists of a small cemetery associated with the Grignon trading post farmstead. The cemetery is known to contain the remains of Lieutenant Robert Grignon, his wife Mary, and her son. Robert Grignon was buried in this plot in 1861. Historical accounts also support that Robert Grignon shared this land with the Menominee so that they could rebury their dead from an endangered traditional cemetery. In 1936, Aurther Kannenberg, curator of the Oshkosh Public Museum, located the Grignon family plot and exhumed three burials identified as Robert Grignon, wife Mary, and Mary's father. Many of the remains appear to have ended up in private collections. In 1993, Mary Schneider donated the collection of her late husband, Dr. Clarence James Schneider, to the University of Wisconsin Oshkosh (UWO). At UWO, a small box was found in his collection with the label, “From the Grave of Robert Grignon.” It is likely that Schneider was one of the individuals who stole remains from these burials. While it is not possible to confirm the specific identity of these remains, it is highly likely they belonged to someone in this small cemetery.The two associated funerary objects are one lot of coffin wood with nails and one lot of coffin nails.

Human remains representing, at least, four individuals have been identified. The individuals were removed from the site of Gruwell (47-WN-0130), Winnebago County, WI in the summer of 1969. The landowner discovered Ancestral remains and gave them to the Winneconne Historical Society. The landowner notified James D. Volkman, an archaeologist associated with UWO, and in fall 1969 Volkman visited the site and recovered artifacts from the same location of the burials. A large portion of the artifacts found date to the Late Historic Period (post-1760 CE). In 1972, a field crew led by UWO Assistant Professor Alaric Faulkner also collected artifacts from the surface of the site. UWO was able to relocate the Ancestors removed from the Gruwell site at the Winneconne Historical Society and following Tribal guidance, transferred legal control of the remains to UWO in 2025 to be repatriated with their associated funerary objects. Historical records indicate that in the later part of the 18th century into the early 19th century there was a Menominee village and cemetery on the shores of the Wolf River, where the modern village of Winneconne sits. Euroamerican settlement on the east shore of the river forced Menominee groups to the west shore. By 1850, the west shore consisted of a few Euroamerican houses and an “Indian” cemetery, shortly before the village of Winneconne incorporated the west bank into the village boundaries. The 16 associated funerary objects are two lots of lithics; one lot of faunal bone; two lots of post contact pottery; one lot of bottle glass; one lot of iron nails and fastener; two lots of soil; one stone pipe; one Kaolin pipe; one lot of glass beads; one lot of bronze buttons; one bronze thimble; one lot of silver brooches; and one copper arm band.

Cultural Affiliation

Based on the information available and the results of consultation, cultural affiliation is clearly identified by the information available about the human remains and associated funerary objects described in this notice.

Determinations

UWO has determined that:

• The human remains described in this notice represent the physical remains of five individuals of Native American ancestry.

• The 18 objects described in this notice are reasonably believed to have been placed intentionally with or near individual human remains at the time of death or later as part of the death rite or ceremony.

• There is a connection between the human remains and associated funerary objects described in this notice and the Menominee Indian Tribe of Wisconsin.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 16, 2026. If competing requests for repatriation are received, UWO must determine the most appropriate requestor prior to repatriation. Requests for joint repatriation of the human remains and associated funerary objects are considered a single request and not competing requests. UWO is responsible for sending a copy of this notice to the Indian Tribes and Native Hawaiian organizations identified in this notice and any other consulting parties.

Authority: Native American Graves Protection and Repatriation Act, 25 U.S.C. 3003, and the implementing regulations, 43 CFR 10.10.

Dated: November 24, 2025.
Melanie O'Brien,
Manager, National NAGPRA Program.

[FR Doc. 2025-23016 Filed 12-16-25; 8:45 am]

BILLING CODE 4312-52-P